DEPARTMENT OF HEALTH AND HUMAN SERVICES

National Institutes of Health

Proposed Collection; 60-Day Comment Request: Questionnaire Cognitive Interviewing and Pretesting (NCI)

SUMMARY: In compliance with the requirement of Section 3506(c)(2)(A) of the Paperwork Reduction Act of 1995, for opportunity for public comment on proposed data collection projects, the National Cancer Institute (NCI), National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and for Further Information: To obtain a copy of the data collection plans and instruments, submit comments in writing, or request more information on the proposed project, contact: Gordon Willis, Division of Cancer Control and Population Sciences, 9609 Medical Center Drive, Rm 3E358, Bethesda, MD 20892-9762 or call non-toll-free number 240-276-6788 or Email your request, including your address to: willis@mail.nih.gov. Formal requests for additional plans and instruments must be requested in writing.

DATES: Comment Due Date: Comments regarding this information collection are best assured of having their full effect if received within 60 days of the date of this publication.

Proposed Collection: Questionnaire Cognitive Interviewing and Pretesting (NCI), 0925-0589, Expiration Date 4/30/2014, REVISION, National Cancer Institute (NCI), National Institutes of Health (NIH).

Need and Use of Information Collection: For many surveys and self-report-based data collection efforts, it is advantageous to the government if development follows a pretesting sequence equivalent to that used at National Center for Health Statistics or the Census Bureau. For example, the Health Information National Trends Survey (HINTS: OMB No. 0925-0538) has undergone multiple cycles of cognitive testing to refine both the questionnaire, and supporting materials such as advance letters and brochures. The types of activities covered by this Generic request include: (1) Survey material development and pretesting based on cognitive interviewing methodology and use of focus groups, (2) Research on the cognitive aspects of survey methodology, (3) Research on computer-user interface design for computer-assisted instruments, also known as Usability Testing, (4) Pilot Household interviews are pilot tests (either personal, telephone, or Web-based) conducted with respondents using professional field interviewers; and (5) Formative research that depends on the use of interviewing techniques to develop products such as research priorities, or expert consensus on best practices.

OMB approval is requested for 3 years. There are no costs to respondents other than their time. The total estimated annualized burden hours are 3,600.

3-Year Estimated Burden Hours
Type of respondents | Number of respondents | Number of responses per respondent | Time per response (in hours) | Burden hours
Physicians, Scientists and similar Respondents | 1,200 | 1 | 75/60 | 1,500
Experts in their Field | 600 | 1 | 75/60 | 750
Administrators/Managers | 600 | 1 | 75/60 | 750
General Public | 1,200 | 1 | 30/60 | 600

Dated: December 27, 2013.
Vivian Horovitch-Kelley,
NCI Project Clearance Liaison, National Institutes of Health.

[FR Doc. 2013-31477 Filed 1-2-14; 8:45 am]

BILLING CODE 4140-01-P